DEPARTMENT OF LABOR

Employee Benefits Security Administration

Proposed Extension of Information Collection Request Submitted for Public Comment; Affordable Care Act Enrollment Opportunity Notice Relating to Dependent Coverage; Affordable Care Act Grandfathered Health Plan Disclosure and Recordkeeping Requirement; Affordable Care Act Rescission Notice; Affordable Care Act Patient Protections Notice; Affordable Care Act Enrollment Opportunity Notice—Prohibition on Lifetime Limits

AGENCY: Employee Benefits Security Administration, Department of Labor.

ACTION: Notice.

SUMMARY: The Department of Labor (the Department), in accordance with the Paperwork Reduction Act of 1995 (PRA 95) (44 U.S.C. 3506(c)(2)(A)), provides the general public and Federal agencies with an opportunity to comment on proposed and continuing collections of information. This helps the Department assess the impact of its information collection requirements and minimize the public's reporting burden. It also helps the public understand the Department's information collection requirements and provide the requested data in the desired format. The Employee Benefits Security Administration (EBSA) is soliciting comments on the proposed extension of the information collection provisions of the regulations under the Patient Protection and Affordable Care Act (Affordable Care Act) that are discussed below. A copy of the information collection requests (ICRs) may be obtained by contacting the office listed in the ADDRESSES section of this notice. ICRs also are available at reginfo.gov (http://www.reginfo.gov/public/do/PRAMain).

DATES: Written comments must be submitted to the office shown in the Addresses section on or before November 29, 2010.

ADDRESSES: G. Christopher Cosby, Department of Labor, Employee Benefits Security Administration, 200 Constitution Avenue, NW., Washington, DC 20210, (202) 693-8410, FAX (202) 693-4745 (these are not toll-free numbers).

SUPPLEMENTARY INFORMATION:

This notice requests public comment on the Department's request for extension of the Office of Management and Budget's (OMB) approval of the information collection requests (ICRs) contained in the rules described below that relate to the Affordable Care Act. OMB approved the ICRs under the emergency procedures for review and clearance in accordance with the Paperwork Reduction Act of 1995 (Pub. L. 104-13, 44 U.S.C. Chapter 35) and 5 CFR 1320.13. The Department is not proposing any changes to the existing ICRs at this time. An agency may not conduct or sponsor, and a person is not required to respond to, an information collection unless it displays a valid OMB control number. A summary of the ICRs and the current burden estimates follows:

Agency: Employee Benefits Security Administration, Department of Labor.

Title: Affordable Care Act Enrollment Opportunity Notice Relating to Dependent Coverage.

Type of Review: Extension without change of a currently approved collection of information.

OMB Number: 1210-0139.

Affected Public: Individuals or households; Business or other for-profit; Not-for-profit institutions.

Respondents: 2,800,000.

Responses: 79,573,000.

Estimated Total Burden Hours: 411,000.

Estimated Total Burden Cost (Operating and Maintenance): $1,233,500.

Description: Section 2714 of the Public Health Service Act (PHS Act), as added by the Affordable Care Act, and the Department's interim final regulation (29 CFR 2590.715-2714) require group health plans and health insurance insurers offering group or individual health insurance coverage that makes dependent coverage available for children to continue to make coverage available to such children until the attainment of age 26. Coverage does not have to be extended to children of a child receiving dependent coverage. For plan years beginning on or after September 23, 2010 and before January 1, 2014, a grandfathered group health plan is not required to offer coverage to a dependent child under 26 who is otherwise eligible for employer-sponsored insurance. For plans with initial years on or after January 1, 2014, the plan must offer coverage regardless of whether the dependent child is otherwise eligible for coverage through employer sponsored insurance.

Before the applicability date of PHS Act section 2714, an individual who was covered under a group health plan (or group health insurance coverage) as a dependent may have lost eligibility for coverage under the plan due to age before attaining age 26. Moreover, if a child was under age 26 when a parent first became eligible for coverage, but older than the age at which the plan stopped covering children, the child would not have become eligible for coverage. When the provisions of PHS Act section 2714 become applicable to the plan (or coverage), the plan or coverage can no longer exclude coverage for the individual until age 26.

Accordingly, the interim final regulation (29 CFR 2590.715-2714(f)) requires plans to provide a notice of an enrollment opportunity to individuals whose coverage ended, or who was denied coverage (or was not eligible for coverage) under a group health plan or group health insurance coverage because, under the terms of the plan or coverage, the availability of dependent coverage of children ended before the attainment of age 26. The Affordable Care Act dependent coverage enrollment opportunity notice is an information collection request (ICR) subject to the PRA.

The enrollment opportunity must continue for at least 30 days, regardless of whether the plan or coverage offers an open enrollment period and regardless of when any open enrollment period might otherwise occur. This enrollment opportunity must be presented not later than the first day of the first plan year (or, in the individual market, policy year) beginning on or after September 23, 2010 (which is the applicability date of PHS Act sections 2714). Coverage must begin not later than the first day of the first plan year (or policy year in the individual market) beginning on or after September 23, 2010. The ICR currently is scheduled to expire on November 30, 2010.

Agency: Employee Benefits Security Administration, Department of Labor.

Title: Affordable Care Act Grandfathered Health Plan Disclosure and Recordkeeping Requirement.

Type of Review: Extension without change of a currently approved collection of information.

OMB Number: 1210-0140.

Affected Public: Individuals or households; Business or other for-profit; Not-for-profit institutions.

Respondents: 2,200,000.

Responses: 56,347,000.

Estimated Total Burden Hours: 323,000.

Estimated Total Burden Cost (Operating and Maintenance): $437,000.

Description: Section 1251 of the Act provides that certain plans and health insurance coverage in existence as of March 23, 2010, known as grandfathered health plans, are not required to comply with certain statutory provisions in the Act. To maintain its status as a grandfathered health plan, the interim final regulations (29 CFR 2590.715-1251(a)(3)) require the plan to maintain records documenting the terms of the plan in effect on March 23, 2010, and any other documents that are necessary to verify, explain or clarify status as a grandfathered health plan. The plan must make such records available for examination upon request by participants, beneficiaries, individual policy subscribers, or a State or Federal agency official.

The interim final regulations (29 CFR 2590.715-1251(a)(2)) also require a grandfathered health plan to include a statement in any plan material provided to participants or beneficiaries describing the benefits provided under the plan or health insurance coverage, that the plan or coverage believes it is a grandfathered health plan within the meaning of section 1251 of the Affordable Care Act, that being a grandfathered health plan means that the plan does not include certain consumer protections of the Affordable Care Act, and providing contact information for participants to direct questions regarding which protections apply and which protections do not apply to a grandfathered health plan and what might cause a plan to change from grandfathered health plan status and to file complaints.

Agency: Employee Benefits Security Administration, Department of Labor.

Title: Affordable Care Act Advanced Notice of Rescission.

Type of Review: Extension without change of a currently approved collection of information.

OMB Number: 1210-0141.

Affected Public: Individuals or households; Business or other for-profit; Not-for-profit institutions.

Respondents: 100.

Responses: 1,600.

Estimated Total Burden Hours: 26.

Estimated Total Burden Cost (Operating and Maintenance): $400.

Description: Section 2712 of the PHS Act, as added by the Affordable Care Act, and the Department's interim final regulation (26 CFR 54.9815-2712, 29 CFR 2590.715-2712, 45 CFR 147.2712) provides rules regarding rescissions of health coverage for group health plans and health insurance issuers offering group or individual health insurance coverage. Under the statute and these interim final regulations, a group health plan, or a health insurance issuer offering group or individual health insurance coverage, generally must not rescind coverage except in the case of fraud or an intentional misrepresentation of a material fact. This standard applies to all rescissions, whether in the group or individual insurance market, or self-insured coverage. These rules also apply regardless of any contestability period of the plan or issuer.

PHS Act section 2712 adds a new advance notice requirement when coverage is rescinded where still permissible. Specifically, the second sentence in section 2712 provides that coverage may not be cancelled unless prior notice is provided, and then only as permitted under PHS Act sections 2702(c) and 2742(b). Under the interim final regulations, even if prior notice is provided, rescission is only permitted in cases of fraud or an intentional misrepresentation of a material fact as permitted under the cited provisions.

The interim final regulations provide that a group health plan, or a health insurance issuer offering group health insurance coverage, must provide at least 30 days advance notice to an individual before coverage may be rescinded. The notice must be provided regardless of whether the rescission is of group or individual coverage; or whether, in the case of group coverage, the coverage is insured or self-insured, or the rescission applies to an entire group or only to an individual within the group. The ICR is schedule to expire on December 31, 2010.

Agency: Employee Benefits Security Administration, Department of Labor.

Title: Affordable Care Act Patient Protection Notice.

Type of Review: Extension without change of a currently approved collection of information.

OMB Number: 1210-0142.

Affected Public: Individuals or households; Business or other for-profit; Not-for-profit institutions.

Respondents: 261,680.

Responses: 6,186,404.

Estimated Total Burden Hours: 33,000.

Estimated Total Burden Cost (Operating and Maintenance): $48,000.

Description: Section 2719A of the PHS Act, as added by the Affordable Care Act, and the Department's interim final regulation (29 CFR 2590.715-2719A) that if a group health plan, or a health insurance issuer offering group or individual health insurance coverage, requires or provides for designation by a participant, beneficiary, or enrollee of a participating primary care provider, then the plan or issuer must permit each participant, beneficiary, or enrollee to designate any participating primary care provider who is available to accept the participant, beneficiary, or enrollee.

The statute and the interim final regulations impose a requirement for the designation of a pediatrician similar to the requirement for the designation of a primary care physician. Specifically, if a plan or issuer requires or provides for the designation of a participating primary care provider for a child by a participant, beneficiary, or enrollee, the plan or issuer must permit the designation of a physician (allopathic or osteopathic) who specializes in pediatrics as the child's primary care provider if the provider participates in the network of the plan or issuer.

The statute and the interim final regulations also provide that a group health plan, or a health insurance issuer may not require authorization or referral by the plan, issuer, or any person (including a primary care provider) for a female participant, beneficiary, or enrollee who seeks obstetrical or gynecological care provided by an in-network health care professional who specializes in obstetrics or gynecology.

When applicable, it is important that individuals enrolled in a plan or health insurance coverage know of their rights to (1) choose a primary care provider or a pediatrician when a plan or issuer requires participants or subscribers to designate a primary care physician; or (2) obtain obstetrical or gynecological care without prior authorization. Accordingly, paragraph (a)(4) of the interim final regulations requires such plans and issuers to provide a notice to participants (in the individual market, primary subscribers) of these rights when applicable. Model language is provided in the interim final regulations. The notice must be provided whenever the plan or issuer provides a participant with a summary plan description or other similar description of benefits under the plan or health insurance coverage, or in the individual market, provides a primary subscriber with a policy, certificate, or contract of health insurance. The ICR currently is scheduled to expire on December 31, 2010.

Agency: Employee Benefits Security Administration, Department of Labor.

Title: Affordable Care Act Enrollment Opportunity Notice—Prohibition on Lifetime Limits.

Type of Review: Extension without change of a currently approved collection of information.

OMB Number: 1210-0143.

Affected Public: Individuals or households; Business or other for-profit; Not-for-profit institutions.

Respondents: 315.

Responses: 29,000.

Estimated Total Burden Hours: 1,300.

Estimated Total Burden Cost (Operating and Maintenance): $7,000.

Description: Section 2711 of the PHS Act, as added by the Affordable Care Act and the Department's interim final regulation (29 CFR 2590.715-2711) The Affordable Care Act dependent coverage enrollment opportunity notice is an information collection request (ICR) subject to the PRA. Before the applicability date of PHS Act section 2711, an individual may have met a lifetime limit under a group health plan or health insurance coverage and therefore lost coverage under the plan or coverage. When the provisions of PHS Act section 2711 become applicable to the plan (or coverage), the plan (or coverage) can no longer exclude coverage for the individual by operation of the lifetime limit.

Accordingly, the interim final regulations (29 CFR 2590.715-2800) require plans to provide a notice of an enrollment opportunity to an individual whose coverage ended due to reaching a lifetime limit on the dollar value of all benefits for any individual.

The enrollment opportunity must continue for at least 30 days, regardless of whether the plan or coverage offers an open enrollment period and regardless of when any open enrollment period might otherwise occur. This enrollment opportunity must be presented not later than the first day of the first plan year (or, in the individual market, policy year) beginning on or after September 23, 2010 (which is the applicability date of PHS Act sections 2714). Coverage must begin not later than the first day of the first plan year (or policy year in the individual market) beginning on or after September 23, 2010. The ICR currently is scheduled to expire on December 31, 2010.

III. Focus of Comments

The Department of Labor (Department) is particularly interested in comments that:

• Evaluate whether the collections of information are necessary for the proper performance of the functions of the agency, including whether the information will have practical utility;

• Evaluate the accuracy of the agency's estimate of the collections of information, including the validity of the methodology and assumptions used;

• Enhance the quality, utility, and clarity of the information to be collected; and

• Minimize the burden of the collections of information on those who are to respond, including through the use of appropriate automated, electronic, mechanical, or other technological collection techniques or other forms of information technology, e.g., by permitting electronic submissions of responses.

Comments submitted in response to this notice will be summarized and/or included in the ICRs for OMB approval of the extension of the information collection; they will also become a matter of public record.

Dated: September 28, 2010.
Joseph S. Piacentini,
Director, Office of Policy and Research, Employee Benefits Security Administration.

[FR Doc. 2010-24674 Filed 9-29-10; 8:45 am]

BILLING CODE 4510-29-P